DEPARTMENT OF VETERANS AFFAIRS

VA Prevention of Fraud, Waste, and Abuse Advisory Committee, Notice of Meeting

The Department of Veterans Affairs (VA) gives notice under the Federal Advisory Committee Act that the VA Prevention of Fraud, Waste, and Abuse Advisory Committee will be held on May 17, 2018 from 8:00 a.m. until 5:00 p.m. (CST) and May 18, 2018 from 8:00 a.m. until 5:00 p.m. (CST) at the Financial Services Center, 7600 Metropolis Drive, Austin, TX 78744. The sessions are closed to the public while the Committee conducts tours of VA facilities, participating in off-site events, and participating in workgroup sessions. The sessions are also closed because the Committee is likely to disclose information of a personal nature where disclosure would constitute a clearly unwarranted invasion of personal privacy.

The purpose of the Committee is to advise the Secretary, through the Assistant Secretary for Management and Chief Financial Officer, on matters relating to improving and enhancing VA's efforts to identify, prevent, and mitigate fraud, waste, and abuse across VA in order to improve the integrity of VA's payments and the efficiency of its programs and activities.

The agenda will include detailed discussion of data analytics relating to VA's Office of Community Care, Office of Inspector General, claims processing system, and Treasury Partnership. During the closed meeting the Committee will discuss VA beneficiary and patient information in which there is a clear unwarranted invasion of the Veteran or beneficiary privacy.

For additional information about the meeting, please contact Ms. Tamika Barrier, Designated Federal Officer, at (757) 254-8630 or email at tamika.barrier@va.gov.

Dated: April 5, 2018.
Jelessa M. Burney,
Federal Advisory Committee Management Officer.

[FR Doc. 2018-07341 Filed 4-9-18; 8:45 am]

BILLING CODE P